DEPARTMENT OF VETERANS AFFAIRS

Privacy Act of 1974; System of Records

AGENCY: Department Of Veterans Affairs (VA).

ACTION: Notice of Amendment of System of Records Notice.

SUMMARY: As required by the Privacy Act of 1974 (5 United States Code 552a(e)(4), (11)), notice is hereby given that the Department of Veterans Affairs (VA) is amending the system of records titled “Veterans Tracking Application (VTA)/Federal Case Management Tool (FCMT)—VA” (163VA005Q3) System Location.

DATES: This amended system of record will be effective April 15, 2014.

FOR FURTHER INFORMATION CONTACT: Dick Rickard, Program Manager (VTA/FCMT), Office of Information & Technology, Department of Veterans Affairs, 810 Vermont Ave. NW., Washington, DC 20420, (801) 842-3375.

SUPPLEMENTARY INFORMATION: The Department is amending its system of records titled “Veterans Tracking Application (VTA)/Federal Case Management Tool (FCMT)” (160VA005Q3) by updating the System Location to include new hosting facilities in Sterling, Virginia and an additional failover facility in Chicago, Illinois.

Signing Authority

The Secretary of Veterans Affairs, or designee, approved this document and authorized the undersigned to sign and submit the document to the Office of the Federal Register for publication electronically as an official document of the Department of Veterans Affairs. Jose D. Riojas, Chief of Staff, Department of Veterans Affairs, approved this document on April 7, 2014, for publication.

Dated: April 10, 2014.
Robert C. McFetridge,
Director of Regulations Policy and Management, Office of the General Counsel, Department of Veterans Affairs.

Notice of Amendment to System of Records

The system of records identified as “Veterans Tracking Application (VTA)/Federal Case Management Tool (FCMT) (163VA 005Q3),” published at 75 FR 76784, December 9, 2010, and amended at 77 FR 23543, April 19, 2012, is revised by deleting the text in the System Location and adding the text as follows:

163VA 005Q3

SYSTEM NAME:

“Veterans Tracking Application (VTA)/Federal Case Management Tool (FCMT)—VA”

* * * * *

SYSTEM LOCATION:

The VTA system containing its associated records is maintained at the Austin Information Technology Center (AITC) at 1615 East Woodward Street, Austin, Texas 78772. The FCMT system containing its associated records is maintained at the Terremark Worldwide computing facility located at 18155 Technology Blvd., Culpeper, Virginia 22701-3805 and, effective March 15, 2014, at Qwest CenturyLink Data Center located at 22810 International Drive, Sterling, Virginia 20166. A second VTA database with an identical set of records is being established at a disaster recovery site at the Hines Information Technology Center (Hines ITC) at Hines, Illinois. All records are maintained electronically. Disaster recovery facilities for the FCMT application and database are available at Terremark's backup site in Miami, Florida and Savvis, A CenturyLink Company, in Chicago, Illinois.

* * * * *

[FR Doc. 2014-08429 Filed 4-14-14; 8:45 am]

BILLING CODE 8320-01-P